DEPARTMENT OF LABOR

Mine Safety and Health Administration

Fee Adjustments for Testing, Evaluation, and Approval of Mining Products

AGENCY: Mine Safety and Health Administration (MSHA), Labor.

ACTION: Notice of fee adjustments.

SUMMARY: This notice revises the user fees for MSHA's Approval and Certification Center (A&CC). Fees compensate MSHA for the costs incurred for testing, evaluating, and approving certain products for use in underground mines. The 2002 fees are based on MSHA's actual expenses for fiscal year 2001. The fees reflect changes both in MSHA's approval processing operations and in the costs to process approval actions.

DATES: This fee schedule is effective from January 1, 2002 through December 31, 2002.

FOR FURTHER INFORMATION CONTACT: Steven J. Luzik, Chief, Approval and Certification Center (A&CC), 304-547-2029 or 304-547-0400.

SUPPLEMENTARY INFORMATION:

Background

On May 8, 1987 (52 FR 17506), MSHA published a final rule, 30 CFR Part 5—Fees for Testing, Evaluation, and Approval of Mining Products. The rule established specific procedures for calculating, administering, and revising user fees. MSHA has revised its fee schedule for 2001 in accordance with the procedures of that rule. This new fee schedule is included below. For approval applications postmarked before January 1, 2002, MSHA will continue to calculate fees under the previous (2001) fee schedule, published on December 28, 2000.

Fee Computation

In general, MSHA computed the 2002 fees based on fiscal year 2001 data. We calculated a weighted-average, direct cost for all the services provided during fiscal year 2001 in the processing of requests for testing, evaluation, and approval of certain products for use in underground mines. From this cost, we calculated a single hourly rate to apply uniformly across all of the product approval categories during 2002.

Signed in Arlington, Virginia, this 19th day of December, 2001.
Dave D. Lauriski,
Assistant Secretary of Labor for Mine Safety and Health.

Fee Schedule Effective January 1, 2002
[Based on FY 2001 data]
Action title | Hourly rate
Fees for Testing, Evaluation, and Approval of all Mining Products ¹ | $57
Retesting for Approval as a Result of Post-Approval Product Audit ² |
30 CFR PART 15—EXPLOSIVES TESTING
Permissibility Tests for Explosives:
Weigh-in | 462
Physical Exam: First size | 325
Chemical Analysis | 1,977
Air Gap—Minimum Product Firing Temperature | 460
Air Gap—Room Temperature | 352
Pendulum Friction Test | 163
Detonation Rate | 352
Gallery Test 7 | 7,436
Gallery Test 8 | 5,533
Toxic Gases (Large Chamber) | 805
Permissibility Tests for Sheathed Explosives:
Physical Examination | 128
Chemical Analysis | 1,044
Gallery Test 9 | 1,944
Gallery Test 10 | 1,944
Gallery Test 11 | 1,944
Gallery Test 12 | 1,944
Drop Test | 648
Temperature Effects/Detonation | 672
Toxic Gases | 580
¹ Full approval fee consists of evaluation cost plus applicable test costs.
² Fee based upon the approval schedule in effect at the time of retest.

Note: When the nature of the product requires that we test and evaluate it at a location other than our premises, you must reimburse us for the traveling, subsistence, and incidental expenses of our representative in accordance with standardized government travel regulations. This reimbursement is in addition to the fees charged for evaluation and testing.

[FR Doc. 01-31855 Filed 12-27-01; 8:45 am]

BILLING CODE 4510-43-P